DEPARTMENT OF HEALTH AND HUMAN SERVICES

Health Care Financing Administration

42 CFR Parts 412 and 413

[HCFA-1069-N]

RIN 0938-AJ55

Medicare Program; Prospective Payment System for Inpatient Rehabilitation Facilities; Extension of Comment Period

AGENCY: Health Care Financing Administration (HCFA), HHS.

ACTION: Notice of extension of comment period for proposed rule.

SUMMARY: This notice extends the comment period on a proposed rule published in the Federal Register on November 3, 2000 (65 FR 66304). That rule would implement section 1886(j) of the Social Security Act (the Act), as added by section 4421 of the Balanced Budget Act of 1997 (Public Law 105-33) and as amended by section 125 of the Balanced Budget Refinement Act of 1999 (Public Law 106-113). Section 1886(j) of the Act authorizes the implementation of a prospective payment system for inpatient rehabilitation hospitals and inpatient rehabilitation units.

DATES: The comment period is extended to 5 p.m. on February 1, 2001.

ADDRESSES: Mail written comments (one original and three copies) to the following address ONLY: Health Care Financing Administration, Department of Health and Human Services, Attention: HCFA-1069-P, P.O. Box 8010, Baltimore, MD 21244-8010.

If you prefer, you may deliver your written comments (one original and three copies) to one of the following addresses: Room 443-G, Hubert H. Humphrey Building, 200 Independence Avenue, SW., Washington, DC 20201, or Room C5-14-03, Central Building, 7500 Security Boulevard, Baltimore, MD 21244-1850.

Because of staffing and resource limitations, we cannot accept comments by facsimile (FAX) transmission. In commenting, please refer to file code HCFA-1069-P. Comments received timely will be available for public inspection as they are received, generally beginning approximately 3 weeks after publication of a document, in Room 443-G of the Department's offices at 200 Independence Avenue, SW., Washington, DC, on Monday through Friday of each week from 8:30 a.m. to 5 p.m. (Phone: (202) 690-7890).

For comments that relate to information collection requirements, mail a copy of comments to: Health Care Financing Administration, Office of Information Services, Standards and Security Group, Division of HCFA Enterprise Standards, Room N2-14-26, 7500 Security Boulevard, Baltimore, MD 21244-1850, Attn.: Julie Brown HCFA 1069-P; and Office of Information and Regulatory Affairs, Office of Management and Budget, Room 10235, New Executive Office Building, Washington, DC 20503, Attn.: Allison Eydt, HCFA Desk Officer.

FOR FURTHER INFORMATION CONTACT: Robert Kuhl, (410) 786-4597.

SUPPLEMENTARY INFORMATION: On November 3, 2000, we issued a proposed rule in the Federal Register (65 FR 66304) that provided information for understanding the development and implementation of the inpatient rehabilitation facility (IRF) prospective payment system (PPS). That information included the following:

• An overview of the current payment system for IRFs.

• A discussion of research on IRF patient classification systems and prospective payment systems, including prior and current research performed by the RAND Corporation.

• A discussion of statutory requirements for developing and implementing an IRF PPS.

• A discussion of the proposed requirement that IRFs complete the Minimum Data Set for Post Acute Care (MDS-PAC) (a patient assessment instrument) as a part of the data collection deemed necessary by the Secretary to implement and administer the IRF PPS.

• A discussion of the IRF patient classification system using case-mix groups (CMGs).

• A detailed discussion of the proposed PPS including the relative weights and payment rates for each CMG, adjustments to the payment system, additional payments, and budget neutrality requirements mandated by section 1886(j) of the Social Security Act.

• An analysis of the impact of the IRF PPS on the Federal budget and inpatient rehabilitation facilities, including small rural facilities.

• Proposed conforming changes to existing regulations as well as new regulations that are necessary to implement the proposed IRF PPS.

The comment period for the proposed rule is scheduled to close at 5 p.m. on January 2, 2001. However, due to the scope and complexity of this proposed rule, we are concerned that the public may not have adequate time to comment on the rule. Accordingly, we are now extending the comment period by 30 days. We will now accept comments on the proposed rule until 5 p.m. on February 1, 2001. We believe the revised date will allow sufficient time for the public to provide comments.

Authority: Secs. 1102 and 1871 of the Social Security Act (42 U.S.C. 1302 and 1395hh).

(Catalog of Federal Domestic Assistance Program No. 93.778, Medical Assistance Program)
Dated: December 8, 2000.
Michael M. Hash,
Acting Administrator, Health Care Financing Administration.

Dated: December 20, 2000.
Donna E. Shalala,
Secretary.

[FR Doc. 00-32993 Filed 12-26-00; 8:45 am]

BILLING CODE 4120-01-P